DEPARTMENT OF COMMERCE

International Trade Administration

[A-570-962]

Certain Potassium Phosphate Salts From the People's Republic of China: Amended Final Determination of Sales at Less Than Fair Value and Antidumping Duty Order

AGENCY: Import Administration, International Trade Administration, Department of Commerce.

SUMMARY: Based on affirmative final determinations by the Department of Commerce (the “Department”) and the International Trade Commission (“ITC”), the Department is issuing an antidumping duty order on certain potassium phosphate salts from the People's Republic of China (“PRC”).

DATES: Effective Date: July 22, 2010.

FOR FURTHER INFORMATION CONTACT: Kathleen Marksberry, AD/CVD Operations, Office 9, Import Administration, International Trade Administration, U.S. Department of Commerce, 14th Street and Constitution Avenue, NW., Washington, DC, 20230; telephone: (202) 482-7906.

SUPPLEMENTARY INFORMATION

Background

In accordance with sections 735(d) and 777(i)(1) of the Tariff Act of 1930, as amended, (“Act”), the Department published the final determination of sales at less than fair value (“LTFV”) in the antidumping investigation of certain potassium phosphate salts from the PRC. See Certain Potassium Phosphate Salts from the People's Republic of China: Final Determination of Sales at Less Than Fair Value and Termination of Critical Circumstances Inquiry, 75 FR 30377 (June 1, 2010) (Final Determination). On July 15, 2010, the ITC notified the Department of its affirmative determination of material injury to a U.S. industry. See Certain Potassium Phosphate Salts from the People's Republic of China, USITC Publication 4171, Investigation Nos. 701-TA-473 and 731-TA-1173 (Final) (July 2010). Pursuant to section 736(a) of the Act, the Department is issuing the antidumping duty order on certain potassium phosphate salts from the PRC.

Scope of the Order

The phosphate salts covered by this order include anhydrous Dipotassium Phosphate (“DKP”) and Tetrapotassium Pyrophosphate (“TKPP”), whether anhydrous or in solution (collectively “phosphate salts”).

TKPP, also known as normal potassium pyrophosphate, Diphosphoric acid or Tetrapotassium salt, is a potassium salt with the formula K4P2O7. The CAS registry number for TKPP is 7320-34-5. TKPP is typically 18.7% phosphorus and 47.3% potassium. It is generally greater than or equal to 43.0% P2O5 content. TKPP is classified under heading 2835.39.1000, Harmonized Tariff Schedule of the United States (“HTSUS”).

DKP, also known as Dipotassium salt, Dipotassium hydrogen orthophosphate or Potassium phosphate, dibasic, has a chemical formula of K2HPO4. The CAS registry number for DKP is 7758-11-4. DKP is typically 17.8% phosphorus, 44.8% potassium and 40% P2O5 content. DKP is classified under heading 2835.24.0000, HTSUS.

The products covered by this order include the foregoing phosphate salts in all grades, whether food grade or technical grade. The products covered by this order includes anhydrous DKP without regard to the physical form, whether crushed, granule, powder or fines. Also covered are all forms of TKPP, whether crushed, granule, powder, fines or solution.

For purposes of the order, the narrative description is dispositive, not the tariff heading, American Chemical Society, CAS registry number or CAS name, or the specific percentage chemical composition identified above.

Amendment to the Final Determination

In the Final Determination we determined that several companies qualified for a separate rate. See Final Determination, 75 FR at 30378. In the preliminary determination, we stated that the antidumping duty margin for companies receiving a separate rate would be based on an average of the rates submitted in the Petition. See Certain Potassium Phosphate Salts From the People's Republic of China: Preliminary Determination of Sales at Less Than Fair Value 75 FR 12508 (March 16, 2010) (Preliminary Determination). For the Preliminary Determination, the Department calculated the average margin for the separate rate companies based on the margins in the petition for TKPP, DKP and anhydrous monopotassium phosphate (“MKP”). However, as explained below, because the ITC made a negative determination of material injury with respect to MKP, the Department is basing its calculation of the separate rate margin on the petition margins for TKPP and DKP only. Therefore, the separate rate margin has been amended to 62.23 percent. The PRC-wide rate of 95.4 percent was based on the highest margin alleged in the petition. Because the highest petition margin of 95.4 percent was for DKP, the PRC-wide rate has not changed. The revised dumping margins are listed in the chart below.

Antidumping Duty Order

Antidumping Duty Order

On July 15, 2010, in accordance with section 735(d) of the Act, the ITC notified the Department of its final determination in this investigation. In its determination, the ITC found three domestic like products (DKP, TKPP, and MKP), covering the scope of subject merchandise subject to the investigation. The ITC made affirmative determinations with respect to DKP and TKPP, and a negative determination with respect to MKP. Since the ITC made different affirmative injury determinations for domestic like products, the Department must instruct U.S. Customs and Border Protection (“CBP”) to assess antidumping duties on entries of DKP and TKPP separately from MKP.

MKP

Because the ITC made a negative determination of material injury with respect to MKP, the Department will direct CBP to terminate the suspension of liquidation for entries of MKP from the PRC entered, or withdrawn from warehouse, and to release any bond or other security, and refund any cash deposit, posted to secure the payment of estimated antidumping duties with respect to these entries.

DKP and TKPP

Because the ITC determined that imports of DKP and TKPP from the PRC are materially injuring a U.S. industry, all unliquidated entries of such potassium phosphate salts from the PRC, entered or withdrawn from warehouse, are subject to the assessment of antidumping duties.

Therefore, in accordance with section 736(a)(1) of the Act, the Department will direct CBP to assess, upon further instruction by the Department, antidumping duties equal to the amount by which the normal value of the merchandise exceeds the export price (or constructed export price) of the merchandise for all relevant entries of certain potassium phosphate salts from the PRC. These antidumping duties will be assessed on unliquidated entries of DKP and TKPP from the PRC entered, or withdrawn from the warehouse, for consumption on or after March 16, 2010, the date on which the Department published its Preliminary Determination.

Effective on the date of publication of the ITC's final affirmative injury determination, CBP will require, at the same time as importers would normally deposit estimated duties on this merchandise, a cash deposit equal to the estimated weighted-average antidumping duty margins as listed below. See section 736(a)(3) of the Act. The “PRC-wide” rate applies to all exporters of subject merchandise not specifically listed. The weighted-average dumping margins are as follows:

Exporter | Supplier | Weighted- average margin
Snow-Apple Group Limited | Chengdu Long Tai Biotechnology Co., Ltd | 62.23
Tianjin Chengyi International Trading (Tianjin) Co., Limited | Zhenjiang Dantu Guangming Auxiliary Material Factory | 62.23
Tianjin Chengyi International Trading (Tianjin) Co., Limited | Sichuan Shifang Hongsheng Chemicals Co., Ltd | 62.23
Wenda Co., Ltd | Thermphos (China) Food Additive Co., Ltd | 62.23
Yunnan Newswift Company Ltd | Guangxi Yizhou Yisheng Fine Chemicals Co., Ltd | 62.23
Yunnan Newswift Company Ltd | Mainzhu Hanwang Mineral Salt Chemical Co., Ltd | 62.23
Yunnan Newswift Company Ltd | Sichuan Shengfeng Phosphate Chemical Co., Ltd | 62.23
PRC-Wide ¹ |  | 95.40

This notice constitutes the antidumping duty order with respect to certain potassium phosphate salts from the PRC pursuant to section 736(a) of the Act. Interested parties may contact the Department's Central Records Unit, Room 1117 of the main Commerce building, for copies of an updated list of antidumping duty orders currently in effect.

¹ The PRC-wide rate includes Sichuan Blue Sword Import and Export Co., Ltd., and SD BNI (LYG) Co., Ltd.

This notice is published in accordance with sections 735(d) and 736(a) of the Act and 19 CFR 351.210(c) and 351.211.

Dated: July 19, 2010.
Ronald K. Lorentzen,
Deputy Assistant Secretary for Import Administration.

[FR Doc. 2010-18098 Filed 7-21-10; 8:45 am]

BILLING CODE 3510-DS-P